OFFICE OF GOVERNMENT ETHICS

5 CFR Part 2604

Technical Amendments to Office of Government Ethics Freedom of Information Act Regulation: Change in Decisional Officials

AGENCY: Office of Government Ethics (OGE).

ACTION: Final rule; technical amendments.

SUMMARY: The Office of Government Ethics is amending its Freedom of Information Act (FOIA) regulation to indicate a change in OGE decisional officials thereunder.

EFFECTIVE DATE: January 16, 2001.

FOR FURTHER INFORMATION CONTACT: William E. Gressman, Senior Associate General Counsel, Office of Government Ethics, telephone: 202-208-8000, ext. 1110; TDD: 202-208-8025; FAX: 202-208-8037.

SUPPLEMENTARY INFORMATION: The Office of Government Ethics is amending its FOIA regulation to indicate a restructuring of decisional authority for handling FOIA requests, appeals and related matters that OGE receives as a Federal agency. The OGE FOIA Officer (instead of the OGE General Counsel) now will decide initial access requests and related matters such as fees. Further, the OGE General Counsel (instead of the OGE Deputy Director) will decide administrative FOIA appeals.

Matters of Regulatory Procedure

Administrative Procedure Act

Pursuant to 5 U.S.C. 553(b) and (d), as Director of the Office of Government Ethics, I find good cause exists for waiving the general notice of proposed rulemaking, opportunity for public comment and 30-day delay in effectiveness as to these amendments.

The notice, comment and delayed effective date provisions are being waived because these technical FOIA regulation amendments concern matters of agency organization, practice and procedure.

Executive Order 12866

In promulgating these minor amendments, OGE has adhered to the regulatory philosophy and the applicable principles of regulation set forth in section 1 of Executive Order 12866, Regulatory Planning and Review. These amendments have not been reviewed by the Office of Management and Budget under that Executive order, since they are not deemed “significant” thereunder.

Executive Order 12988

As Director of the Office of Government Ethics, I have reviewed this final amendatory regulation in light of section 3 of Executive Order 12988, Civil Justice Reform, and certify that it meets the applicable standards provided therein.

Regulatory Flexibility Act

As Director of the Office of Government Ethics, I certify under the Regulatory Flexibility Act (5 U.S.C. chapter 6) that this rulemaking will not have a significant economic impact on a substantial number of small entities.

Paperwork Reduction Act

The Paperwork Reduction Act (44 U.S.C. chapter 35) does not apply because this amendatory rulemaking does not contain information collection requirements that require the approval of the Office of Management and Budget.

Congressional Review Act

The Office of Government Ethics has determined that this amendatory rulemaking is a nonmajor rule under the Congressional Review Act (5 U.S.C. chapter 8) and has provided a report thereon to the Senate, House of Representatives and General Accounting Office in accordance with that law.

List of Subjects in 5 CFR Part 2604

Administrative practice and procedure, Archives and records, Confidential business information, Conflict of interests, Freedom of information, Government employees.

Approved: January 9, 2001.
Amy L. Comstock,
Director, Office of Government Ethics.

Accordingly, the Office of Government Ethics, pursuant to its authority under the Ethics in Government Act and the Freedom of Information Act, is amending 5 CFR part 2604 as follows:

PART 2604—FREEDOM OF INFORMATION ACT RULES AND SCHEDULE OF FEES FOR THE PRODUCTION OF PUBLIC FINANCIAL DISCLOSURE REPORTS

1. The authority citation for part 2604 continues to read as follows:

Authority: 5 U.S.C. 552; 5 U.S.C. App. (Ethics in Government Act of 1978); E.O. 12600, 52 FR 23781, 3 CFR, 1987 Comp., p. 235.

2. Section 2604.103 is amended by removing the definition of “General Counsel”, and by adding a new definition, for “FOIA Officer”, to read as follows:

§ 2604.103 Definitions.

FOIA Officer means the OGE employee designated to handle various initial FOIA matters, including requests and related matters such as fees.

* * * * *

§§ 2604.301, 2604.302, 2604.303, 2604.305, 2604.402 [Amended]

3. Sections 2604.301(a) and (b)(2), 2604.302(a) and (d), 2604.303(a), (b) (introductory text) and (b)(2), 2604.305(a)(1) and (a)(2), and 2604.402(c) (introductory text), (c)(2), (e) (introductory text), (e)(3), (f), (g)(1) and (g)(4) are amended by removing the words “General Counsel” wherever they appear and adding in their place in each instance the words “FOIA Officer”.

§ 2604.304 [Amended]

4. Section 2604.304(a) is amended by removing the words “Deputy Director” between the words “the” and “of” and adding in their place the words “General Counsel”.

[FR Doc. 01-1170 Filed 1-12-01; 8:45 am]

BILLING CODE 6345-01-P